DEPARTMENT OF LABOR

Employment and Training Administration

Notice of Determination Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of May, 2000.

In order for an affirmative determination to be made and a certification of eligibility to apply for worker adjustment assistance to be issued, each of the group eligibility requirements of section 222 of the Act must be met.

(1) That a significant number or proportion of the workers in the workers' firm, or an appropriate subdivision thereof, have become totally or partially separated;

(2) That sales or production, or both, of the firm or subdivision have decreased absolutely; and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-37,301; Western Moulding Co., Snowflake, AZ

TA-W-37,365; Borg-Warner Automotive, Air/Fluids Systems, Blytheville, AR

TA-W-37,359; General Electric, Warwick, RI

TA-W-37,320; Coats America, Bristol, RI

TA-W-37,286; Northern Automotive Systems, Design Div., LaCrosse, WI

TA-W-37,269; Strong Wood Products, Inc., Strong, ME

TA-W-37,363; George Bassi Distributing Co., Watsonsville, CA

TA-W-37,618; Minard Run Oil Co., Bradford, PA

TA-W-37,549; Labeling Systems, Inc., Oakland, NJ

TA-W-37,533; Hexcel Corp., Structures & Interiors, Kent, WA

In the following cases, the investigation revealed that the criteria for eligibility have not been met for the reasons specified.

TA-W-37,541; Joshua L. Baily & Co., Inc., Hoboken, NJ

TA-W-37,612; AST Research, Inc. d/b/a ARI Services, Fort Worth, TX

TA-W-37,610; Tenk Machine & Tool Co., Cleveland, OH

The workers firm does not produce an article as required for certification under Section 222 of the Trade Act of 1974.

TA-W-37,572; Litton Data Systems, Agoura, CA

TA-W-37,200; Tower Automotive, Inc., Formerly active Tooling and Manufacturing Co., Detroit Tooling Center, Detroit, MI

TA-W-37,444; Kobratech Design, Inc., North Canton, OH

TA-W-37,498; Corbin, Ltd, Huntington, WV

TA-W-37,409; The Quaker Oats Co., St. Joseph, MO

TA-W-37,465; The Quaker Oats, Shiremanstown, PA

TA-W-37,348; AAF-McQuay, Inc. d/b/a McQuay International, Staunton, VA

Increased imports did not contribute importantly to worker separations at the firm.

TA-W-37,543; Chevron Products Co., El Paso, TX

The investigation revealed that criteria (2) and criteria (3) have not been met. Sales or production did not decline during the relevant period as required for certification. Increases of imports of articles like or directly competitive with articles produced by the firm or an appropriate subdivision have not contributed importantly to the separations or threat thereof, and the absolute decline in sales or production.

Affirmative Determinations for Worker Adjustment Assistance

The following certifications have been issued; the date following the company name and location of each determination references the impact date for all workers and such determination.

TA-W-37,299; Standard Candy Co., Hard Stick Div., Nashville, TN: January 19, 1999.

TA-W-37,101; Royal Coat (Formerly Main Coat), Clifton, NJ: October 28, 1998.

TA-W-37,361; Motch Corp., Cleveland, OH: February 9, 1999.

TA-W-37,531; Swank Inc., Attleboro, MA: March 21, 1999.

TA-W-37,521; Woodgrain Millwork, Inc., Lakeview Operation, Lakeview, OR: March 15, 1999.

TA-W-37,408; Hubbell Corp., RACO Div., South Bend, IN: February 7, 1999.

TA-W-37,527; C.P. Lighting, Inc., Pottsville, PA: March 21, 1999.

TA-W-37,422; BTR Sealing Systems, Extrusion Plant, Maryland, TN: February 23, 1999.

TA-W-37,155; Greenfield Industries, Inc., Solon, OH: November 19, 1998.

TA-W-37,422; Carolina Knitwear, Lane, SC: February 28, 1999.

TA-W-37,577; Barry Manufacturing Co., Inc., Lynn, MA: March 10, 1999.

TA-W-37,488; Tyco Electronics, Marion, KY: March 7, 1999.

TA-W-37,594; Manchester Manufacturers, Inc., Manchester, OH: April 11, 1999.

TA-W-37,559; Anchor Lamina America, Inc., Cheshire, CT: March 27, 1999.

TA-W-37,580; Tally Sportswear, Inc., Lancaster, SC: April 3, 1999.

TA-W-37,529; Hartz & Co., Inc., Broadway, VA: March 24, 1999.

TA-W-37,095; Leggett and Platt, Springfield, MO: November 5, 1998.

TA-W-37,632; Clark Material Handling Co., Lexington, KY: April 22, 1999.

TA-W-37,372; Deer Valley Apparel, Inc., Chilhowie, VA: January 28, 1999.

TA-W-37,147; Hubbell Electrical Products, St. Louis, MO: November 24, 1998.

TA-W-37,601; Styl-Rite, Inc., Miami, FL: April 10, 1999.

TA-W-37,175; & A; Tuckaseigie Mills, Inc., Bryson City, NC and Sylva, NC: December 1, 1998.

TA-W-37, 373; Sawdust Pencil Co., Edison, NJ: February 14, 1999.

TA-W-37, 322; Herbert Grossman Enterprises, Inc., New York, NY: January 26, 1999.

TA-W-37, 615; Mr. Coffee, Div. of Sunbeam Products, Inc., Glenwillow, OH: April 14, 1999.

TA-W-37, 576; Bar-Sew, Inc., Lehighton, PA: March 31, 1999.

TA-W-37, 369; Ikeda Interior Systems, Inc., Sidney, OH: February 3, 1999.

TA-W-37, 352; Cranston Print Works Co., Cranston, RI: January 26, 1999.

TA-W-37, 556; Cin TAs Corp., Stevenson, AL: March 25, 1999.

TA-W-37, 485; Rising Eagle Enterprises, Inc., East TAwas, MI: March 20, 1999.

TA-W-37, 591; Issac Hazen & Co., Inc., d/b/a The Hazan Group, Cutting Dept., Secaucus, NJ: April 4, 1999.

TA-W-37, 329; Crown Yarn, South Attleboro, MA: February 2, 1999.

TA-W-37, 413; Cebeco Lilies, Inc., Aurora, OR: February 16, 1999.

TA-W-37, 491; Cherrybell Manufacturing Corp., Tucson, AZ: February 28, 1999.

TA-W-37, 238; Harborside Graphics Sportswear, Belfast, ME: December 10, 1998.

TA-W-37, 515; Sierra Pacific Apparel, Visalia, CA: March 14, 1999.

TA-W-37, 344; Monona Wire Corp., EMD Acquisition Subsidiary, Greenwood, MS: January 25, 1999.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of May, 2000.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely;

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-03829; Hexcel Corp., Structures & Interiors, Kent, WA

NAFTA-TAA-03825; C & L Textiles Corp., Cooper City, FL

NAFTA-TAA-03796; C & L Textiles Corp., New York, NY

NAFTA-TAA-03793; PJC Sportswear, Inc., Brooklyn, NY

NAFTA-TAA-03787; Cherrybille Manufacturing Corp., Tucson, AZ

NAFTA-TAA-03777; The Quaker Coats Co., Shiremanstown, PA

NAFTA-TAA-03738; The Quaker Coats Co., St. Joseph, MO

NAFTA-TAA-03820; Labeling Systems, Inc., Oakland, NJ

NAFTA-TAA-03855; Minard Run Oil Co., Bradford, PA

NAFTA-TAA-03850; Tecumseh Products Co., Somerset, KY

NAFTA-TAA-03525; Acme Steel Co., Riverdale, IL

NAFTA-TAA-03489; Brighton Electric Steel Casting Co., Beaver Falls, Pa

NAFTA-TAA-03858; Rite Industries, Inc., High Point, NC

The investigation revealed that the criteria for eligibility have not been met for the reasons specified.

NAFTA-TAA-03863; Westwood Lighting, Inc., El Paso, TX

NAFTA-TAA-03861; Cross Oil and Well Service, Inc., d/b/a Cross Supply, Olney, IL

The investigation revealed that workers of the subject firm did not produce an article within the meaning of Section 250(a) of the Trade Act, as amended.

Affirmative Determinations NAFTA-TAA

NAFTA-TAA-03773; Hamrick's, Inc., Jonesville, SC: February 28, 1999.

NAFTA-TAA-03720; Ikeda Interior Systems, Inc., Sidney, OH: February 4, 1999.

NAFTA-TAA-03840; Tally Sportswear, Inc., Lancaster, SC: April 3, 1999.

NAFTA-TAA-03819; Anchor Lamina America, Inc., Cheshire, CT: March 2, 1999.

NAFTA-TAA-03799; Tyco Electronics, Marion KY: March 1, 1999.

NAFTA-TAA-03803; Rising Eagle Enterprises, East Tawas, MI: March 10, 1999.

NAFTA-TAA-03732; Custom Emblems, Inc., Tampa, FL: February 21, 1999.

NAFTA-TAA-03856; RHI Refractories America, Womelsdorf, PA: April 14, 1999.

NAFTA-TAA-03818; Sierra Pacific Apparel, Visalia, CA: March 14, 1999.

NAFTA-TAA-03612; Hubbell Electrical Products, St. Louis, MO: November 24, 1998.

NAFTA-TAA-03791; May Apparel Group, Whittakers, NC and Mebane, NC: March 7, 1999.

NAFTA-TAA-03835; American Industrial Container Corp. A Div. of Lenworth Metal Products Limited, Meadville, PA: March 28, 1999.

NAFTA-TAA-03871; Mr. Coff, Div. of Sunbeam Products, Inc., Glenwillow, OH: April 14, 1999.

NAFTA-TAA-03761; General Electric Meter Business, Single Phase Residential Meter Final Assembly, Somersworth, NH: February 28, 1999.

NAFTA-TAA-03830; Willamette Industries, Dallas, OR: May 29, 1999

NAFTA-TAA-03812; Exide Corp., Reading, PA: March 10, 1999

NAFTA-TAA-03878; Kongsberg Automotive, Livonia, MI: March 23, 1999.

NAFTA-TAA-03822; Kellwood Co. d/b/a American Recreation Products, Inc., Mineola, TX: March 23, 1999.

I hereby certify that the aforementioned determinations were issued during the month of May, 2000. Copies of these determinations are available for inspection in Room C-4318, U.S. Department of Labor, 200 Constitution Avenue, NW, Washington, DC 20210 during normal business hours or will be mailed to persons who write to the above address.

Dated: May 19, 2000.
Grant D. Beale,
Program Manager, Division of Trade Adjustment Assistance.

[FR Doc. 00-13472 Filed 5-30-00; 8:45 am]

BILLING CODE 4510-30-M